DEPARTMENT OF COMMERCE

Foreign-Trade Zones Board

[[S-67-2024]

Approval of Subzone Status; Hamilton Beach Brands, Inc; Byhalia, Mississippi

On April 11, 2024, the Executive Secretary of the Foreign-Trade Zones (FTZ) Board docketed an application submitted by the Northern Mississippi FTZ, Inc., grantee of FTZ 262, requesting subzone status subject to the existing activation limit of FTZ 262, on behalf of Hamilton Beach Brands, Inc., in Byhalia, Mississippi.

The application was processed in accordance with the FTZ Act and Regulations, including notice in the Federal Register inviting public comment (89 FR 26862, April 16, 2024). The FTZ staff examiner reviewed the application and determined that it meets the criteria for approval.

Pursuant to the authority delegated to the FTZ Board Executive Secretary (15 CFR 400.36(f)), the application to establish Subzone 262F was approved on June 10, 2024, subject to the FTZ Act and the Board's regulations, including section 400.13, and further subject to FTZ 262's 2,000-acre activation limit.

Dated: June 10, 2024.
Elizabeth Whiteman,
Executive Secretary.

[FR Doc. 2024-13043 Filed 6-12-24; 8:45 am]

BILLING CODE 3510-DS-P